DEPARTMENT OF ENERGY

Federal Energy Regulatory Commission

Combined Notice of Filings #1

Take notice that the Commission received the following electric corporate filings:

Docket Numbers: EC13-150-000.

Applicants: Noble Great Plains Windpark, LLC.

Description: Application for Authorization for Disposition of Jurisdictional Facilities and Requests for Waivers, Confidential Treatment, and Expedited Consideration of Noble Great Plains Windpark, LLC. On 9/19/13 submitted an Errata to September 18, 2013 Application for Authorization for Disposition of Jurisdictional Facilities.

Filed Date: 9/18/13; 9/19/13.

Accession Number: 20130918-5079; 20130919-5081.

Comments Due: 5 p.m. ET 10/9/13.

Take notice that the Commission received the following exempt wholesale generator filings:

Docket Numbers: EG13-58-000.

Applicants: NRG Delta LLC.

Description: Notice of NRG Delta LLC for Self-Certification of Exempt Wholesale Generator Status.

Filed Date: 9/19/13.

Accession Number: 20130919-5089.

Comments Due: 5 p.m. ET 10/10/13.

Take notice that the Commission received the following electric rate filings:

Docket Numbers: ER12-1195-001; ER10-2310-002; ER10-2314-002; ER10-2311-002; ER10-2312-002; ER10-2313-002; ER10-2315-002; ER10-2316-002; ER10-2318-002; ER10-2321-002.

Applicants: Camden County Energy Recovery Associates, L.P., Covanta Delaware Valley, L.P., Covanta Energy Marketing LLC, Covanta Essex Company, Covanta Hempstead Company, Covanta Maine, LLC, Covanta Niagara, L.P., Covanta Plymouth Renewable Energy Limited Partnership, Covanta Power LLC, Covanta Union, Inc.

Description: Notice of Change in Status of the Covanta MBR Entities.

Filed Date: 9/18/13.

Accession Number: 20130918-5084.

Comments Due: 5 p.m. ET 10/9/13.

Docket Numbers: ER13-1819-001.

Applicants: Southwest Power Pool, Inc.

Description: Southwest Power Pool, Inc. submits 1534R3 Kansas Municipal Energy Agency NITSA and NOA—Compliance Filing to be effective 6/1/2013.

Filed Date: 9/19/13.

Accession Number: 20130919-5048.

Comments Due: 5 p.m. ET 10/10/13.

Docket Numbers: ER13-2400-000.

Applicants: Southern California Edison Company.

Description: Notices of Cancellation with SunEdison Utility Solutions, LLC to be effective 3/13/2013.

Filed Date: 9/19/13.

Accession Number: 20130919-5001.

Comments Due: 5 p.m. ET 10/10/13.

Docket Numbers: ER13-2401-000.

Applicants: ITC Midwest LLC.

Description: Filing of Letter Agreement with AECI to be effective 11/18/2013.

Filed Date: 9/19/13.

Accession Number: 20130919-5021.

Comments Due: 5 p.m. ET 10/10/13.

Docket Numbers: ER13-2402-000.

Applicants: PJM Interconnection, L.L.C.

Description: Queue Position Y1-084; Original Service Agreement No. 3637 to be effective 8/20/2013.

Filed Date: 9/19/13.

Accession Number: 20130919-5038.

Comments Due: 5 p.m. ET 10/10/13.

Take notice that the Commission received the following open access transmission tariff filings:

Docket Numbers: OA13-8-000.

Applicants: Genesis Solar, LLC.

Description: Genesis Solar, LLC Petition for Waiver from Order Nos. 888, 889 and 890, and Request for Waiver of the 60-Day Rule.

Filed Date: 9/18/13.

Accession Number: 20130918-5094.

Comments Due: 5 p.m. ET 10/9/13.

Take notice that the Commission received the following qualifying facility filings:

Docket Numbers: QF13-540-000.

Applicants: Tech Park Solar, LLC.

Description: Refund Report of Tech Park Solar, LLC.

Filed Date: 9/19/13.

Accession Number: 20130919-5040.

Comments Due: 5 p.m. ET 10/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2013.
Nathaniel J. Davis, Sr.,
Deputy Secretary.

[FR Doc. 2013-23570 Filed 9-26-13; 8:45 am]

BILLING CODE 6717-01-P